DEPARTMENT OF DEFENSE

Office of the Secretary

32 CFR Part 75

[DoD-2007-OS-0047]

Conscientious Objectors

AGENCY: Department of Defense.

ACTION: Final rule.

SUMMARY: This document removes part 75, “Conscientious Objectors” presently in Title 32 of the Code of Federal Regulations. The document on which this part was based has been revised and is limited only to DoD personnel management matters, affects only DoD military personnel, and has no impact on the public.

DATES: Effective Date: June 19, 2007.

FOR FURTHER INFORMATION CONTACT: CDR Lesa J. Kirsch, 703-697-4959.

SUPPLEMENTARY INFORMATION: This part 75 is removed as a part of a DoD exercise to remove CFR parts no longer required to be codified. The corresponding DoD Instruction 1300.06 is available at http://www.dtic.mil/whs/directives.

List of Subjects in 32 CFR Part 75

Conscientious objectors, Military personnel.

PART 75—[REMOVED]

Accordingly, by the authority of 10 U.S.C. 301, 32 CFR part 75 is removed.

Dated: June 11, 2007.
C.R. Choate,
Alternate OSD Federal Register Liaison Officer, Department of Defense.

[FR Doc. 07-2985 Filed 6-18-07; 8:45 am]

BILLING CODE 5001-06-M